SOCIAL SECURITY ADMINISTRATION

[Docket No: SSA-2017-0039]

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections, and one new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2017-0039].

SSA submitted the information collections below to OMB for clearance. Your comments regarding these information collections would be most useful if OMB and SSA receive them 30 days from the date of this publication. To be sure we consider your comments, we must receive them no later than August 28, 2017. Individuals can obtain copies of the OMB clearance packages by writing to OR.Reports.Clearance@ssa.gov.

1. Promoting Opportunity Demonstration—0960-NEW. Section 823 of the Bipartisan Budget Act of 2015 requires SSA to carry out the Promoting Opportunity Demonstration (POD) to test a new benefit offset formula for Social Security Disability Insurance (SSDI) beneficiaries. Therefore, SSA is undertaking POD, a demonstration to evaluate the affect the new policy will have on SSDI beneficiaries and their families in several critical areas: (1) Employment, (2) benefits, (3) earnings, and (4) income (earnings plus benefits). Under current law, Social Security beneficiaries lose their SSDI benefit if they have earnings or work activity above the threshold of Substantial Gainful Activity (SGA). The POD evaluation will draw on previous lessons from related work incentive experiences, especially SSA's Benefit Offset National Demonstration (BOND), 0960-0785, which tested a different offset formula. POD tests a different policy than BOND in two important ways: (1) A lower threshold at which point the offset is applied—increasing the likelihood of reducing benefit expenditures relative to current law expenditures; and (2) A more immediate adjustment to the benefits—to increase the salience and clarity of the offset policy for beneficiaries. The POD will test a benefit offset that will reduce benefits by $1 for every $2 in participants' earnings above the POD threshold, gradually reducing benefits as earnings increase. The POD threshold will equal the greater of (1) an inflation-adjusted trial work period level ($840 in 2017); or (2) the amount of the participant's itemized impairment-related work expenses up to SGA. The new rules we will test in POD also simplify work incentives and we intend them to promote employment and reduce dependency on benefits.

The design for POD will include implementation and evaluation activities designed to answer seven central research questions:

• What are the impacts of the two POD benefit designs on beneficiaries' earnings, SSDI benefits, and total earnings and benefit income?

• Is POD attractive to beneficiaries? Do they remain engaged over time?

• How were the POD offset policies implemented, and what operational, systemic, or contextual factors facilitated or posed challenges to administering the offset?

• How successful were POD and SSA in making timely benefit adjustments, and what factors affected timeliness positively or negatively?

• How do the impacts of the POD offset policies vary with beneficiary characteristics?

• What are the costs and benefits of the POD benefit designs relative to current law, and what are the implications for the SSDI trust fund?

• What are the implications of the POD findings for national policy proposals that would include a SSDI benefit offset?

The public survey data collections have four components—a process analysis, a participation analysis, an impact analysis, and a cost-benefit analysis. The data collections are the primary source for data to measure the effects of the benefit offset on SSDI beneficiaries' work efforts and earnings. Ultimately, these data will benefit researchers, policy analysts, policy makers, SSA, and the state vocational rehabilitation agencies in a wide range of program areas. There are four targeted outcomes for SSDI beneficiaries under POD: (1) Increased employment and earnings; (2) decreased benefits payments; (3) increased total income; and (4) impacts on other related outcomes (for example, health status and quality of life). Additionally, four outcomes of interest for system changes include: (1) Reduction in overpayments; (2) enhanced program integrity; (3) stronger culture of self-sufficiency; and (4) improved SSDI trust fund balance. Respondents are SSDI beneficiaries, who will provide written consent before agreeing to participate in the study and before we randomly assign them to one of the study treatment groups.

Type of Request: Request for a new information collection.

Note: The burden in the chart below differs from the burden SSA reported in our last published notice for this collection (April 18, 2017, at 82 FR 18335). The number of burden hours decreased because we removed questions from the information collection, resulting in a lower response time and an accompanying decrease in burden hours.

Modality of completion | Number of respondents | Frequency of response | Number of responses | Average burden per response (minutes) | Total annual burden (hours)
Informed Consent Form | 16,500 | 1 | 16,500 | 10 | 2,750
Baseline Survey | 16,500 | 1 | 16,500 | 20 | 5,500
12-Month Follow Up Survey | 6,000 | 1 | 6,000 | 28 | 2,800
24-Month Follow Up Survey | 12,000 | 1 | 12,000 | 23 | 4,600
Interviews with Site Staff | 40 | 4 | 160 | 66 | 176
Onsite Audit of Sample of Case Files | 8 | 2 | 16 | 20 | 5
Semi-Structured Interviews with Treatment Group Subjects | 144 | 1 | 144 | 60 | 144
Monthly Earnings and Impairment-Related Expenses Reporting Form (paper) | 1,820 | 12 | 21,840 | 10 | 3,640
Monthly Earnings and Impairment-Related Expenses Reporting Form (Internet) | 780 | 12 | 9,360 | 5 | 780
End of Year Reporting Form (paper) | 945 | 1 | 945 | 15 | 236
End of Year Reporting Form (Internet) | 405 | 1 | 405 | 10 | 68
Totals | 55,142 |  | 83,870 |  | 20,699

2. SSI Notice of Interim Assistance Reimbursement (IAR)—0960-0546. Section 1631(g) of the Social Security Act (Act) authorizes SSA to reimburse an IAR agency from an individual's retroactive Supplemental Security Income (SSI) payment for assistance the IAR agency gave the individual for meeting basic needs while an SSI claim was pending or SSI payments were suspended or terminated. The State or local agency needs an IAR agreement with SSA to participate in the IAR program. The individual receiving the IAR payment signs an authorization form with an IAR agency to allow SSA to repay the IAR agency for funds paid in advance prior to SSA's determination on the individual's claim. The authorization represents the individual's intent to file for SSI, if they did not file an application prior to SSA receiving the authorization. Agencies who wish to enter into an IAR agreement with SSA need to meet the following requirements:

• Reporting Requirements—Each IAR agency agrees to:

○ (a) Notify SSA of receipt of an authorization for initial claims or cases they are appealing, and (b) submit a copy of that authorization either through a manual or electronic process;

○ (c) inform SSA of the amount of reimbursement;

○ (d) submit a written request for dispute resolution on a determination;

○ (e) notify SSA of interim assistance paid (using the SSA-8125 or the SSA-L8125-F6);

○ (f) inform SSA of any deceased claimants who participate in the IAR program and;

○ (g) review and sign an agreement with SSA.

• Recordkeeping Requirements (h & i)—The IAR agencies agree to retain all notices, agreement, authorizations, and accounting forms for the period defined in the IAR agreement for the purposes of SSA verifying transactions covered under the agreement.

• Third Party Disclosure Requirements (j)—Each participating IAR agency agrees to send written notices from the IAR agency to the recipient regarding payment amounts and appeal rights.

• Periodic Review of Agency Accounting Process (k-m)—The IAR agency makes the IAR accounting records of paid cases available for SSA review and verification. SSA conducts reviews either onsite or through the mail of the authorization forms, notices to the claimant and accounting forms. Upon completion of the review, SSA provides a written report of findings to the IAR agency director.

The respondents are State IAR officers.

Type of Request: Revision of an OMB-approved information collection.

Modality of completion | Number of respondents | Frequency of response | Number of responses | Average burden per response (minutes) | Estimated total annual burden (hours)
Reporting Requirements
(a) State notification of receipt of authorization (Electronic Process) | 11 | Once per SSI claimant | 97,330 | 1 | 1,622
(b) State submission of copy of authorization (Manual Process) | 27 | Once per SSI claimant | 68,405 | 3 | 3,420
(c) State submission of amount of IA paid to recipients (using eIAR) | 38 | Once per SSI claimant | 101,352 | 8 | 13,514
(d) State request for determination—dispute resolution | (¹) | As needed | 2 | 30 | 1
(e) State computation of reimbursement due form SSA using paper Form SSA-L8125-F6 | 38 | Once per SSI claimant | 1,524 | 30 | 762
(f) State notification to SSA of deceased claimant | 20 | As needed when SSI claimant dies while claim is pending | 40 | 15 | 10
(g) State reviewing/signing of IAR Agreement | 38 | Once during life of the IAR agreement | 38 | ² 12 | 456
Recordkeeping Requirements
(h) Maintenance of authorization forms | 38 | One form per SSI claimant | ³ 165,735 | 3 | 8,287
(i) Maintenance of accounting forms and notices | 38 | One form per SSI claimant | 101,352 | 3 | 5,068
Third Party Disclosure Requirements
(j) Written notice from State to recipient regarding amount of payment | 38 | Once per SSI claimant | 101,352 | 7 | 11,824
Periodic Review of Agency Accounting Process
(k) Retrieve and consolidate authorization and accounting forms | 12 | One set of forms per SSI claimant for review by SSA once every 2 to 3 years | 12 | 3 | 36
(l) Participate in periodic review | 12 | For review by SSA once every 2 to 3 years | 12 | 16 | 192
(m) Correct administrative and accounting discrepancies | 6 | To correct errors discovered by SSA in periodic review | 6 | 4 | 24
Total Administrative Burden
Totals | 38 |  | 639,160 |  | 45,216
¹ Average of about 2 States per year.
² Hours.
³ Includes both denied and approved SSI claims.

3. A Social Security Benefits Application—20 CFR 404.310-404.311, 404.315-404.322, 404.330-404.333, 404.601-404.603, and 404.1501-404.1512—0960-0618. Title II of the Social Security Act provides retirement, survivors, and disability benefits to members of the public who meet the required eligibility criteria and file the appropriate application. This collection comprises the various application methods for each type of benefits. SSA uses the information we gather through the multiple information collection tools in this information collection request to determine applicants' eligibility for specific Social Security benefits, as well as the amount of the benefits. Individuals filing for disability benefits can, and in some instances SSA may require them to, file applications under both Title II, Social Security disability benefits, and Title XVI, SSI payments. We refer to disability applications filed under both titles as “concurrent applications.” This collection comprises the various application methods for each type of benefits. These methods include the following modalities: Paper forms (Forms SSA-1, SSA-2, and SSA-16); Modernized Claims System (MCS) screens for in-person interview applications; and Internet-based iClaim and iAppointment applications. SSA uses the information we collect through these modalities to determine: (1) The applicants' eligibility for the above-mentioned Social Security benefits and (2) the amount of the benefits. The respondents are applicants for retirement, survivors, and disability benefits under Title II of the Act.

Type of Request: Revision of an OMB-approved information collection.

Modality of completion | Number of respondents | Frequency of response | Average burden per response (minutes) | Estimated total annual burden (hours)
SSA
Paper version/SSA-1 | 1,811 | 1 | 11 | 332
Interview/MCS | 1,438,058 | 1 | 10 | 239,676
Medicare Only SSA-1 Paper form (abbreviate) | 173 | 1 | 7 | 20
Medicare Only—Interview/MCS | 204,380 | 1 | 7 | 23,844
Totals | 1,644,422 |  |  | 263,872
SSA-2
Paper version/SSA-2 | 972 | 1 | 15 | 243
Interview/MCS | 447,610 | 1 | 14 | 104,442
Totals | 448,582 |  |  | 104,685
SSA-16
Paper version/SSA-16 | 40,346 | 1 | 20 | 13,449
Interview/MCS | 1,159,121 | 1 | 19 | 367,055
Totals | 1,199,467 |  |  | 380,504
iClaim
iClaim 3rd Party | 350,519 | 1 | 15 | 87,630
iClaim Applicant after 3rd Party Completion | 350,519 | 1 | 5 | 29,210
First Party iClaim—Domestic Applicant | 2,283,301 | 1 | 15 | 570,825
First Party iClaim—Foreign Applicant | 11,373 | 1 | 18 | 3,412
Medicare-only iClaim | 797,709 | 1 | 10 | 132,952
Totals | 3,793,421 |  |  | 824,029
iAppointment Burden Information
iAppointment | 17,621 | 1 | 10 | 2,937
Grand Total | 7,103,513 |  |  | 1,576,027

Dated: July 21, 2017.
Naomi R. Sipple,
Reports Clearance Officer, Social Security Administration.

[FR Doc. 2017-15761 Filed 7-26-17; 8:45 am]

BILLING CODE 4191-02-P